NUCLEAR REGULATORY COMMISSION

[Docket No. 030-29462; NRC-2021-0080]

Department of the Navy; Environmental Assessment and Finding of No Significant Impact

AGENCY: Nuclear Regulatory Commission.

ACTION: Environmental assessment and finding of no significant impact; issuance.

SUMMARY: The U.S. Nuclear Regulatory Commission (NRC) is considering amending Materials License No. 45-23645-01NA to authorize extending the time period for completing decommissioning and requesting termination of the Department of the Navy's permitted activities and has prepared an Environmental Assessment (EA) and Finding of No Significant Impact (FONSI) in support of this action.

DATES: The Technical Evaluation Report referenced in this document is available on March 25, 2021.

ADDRESSES: Please refer to Docket ID NRC-2021-0080 when contacting the NRC about the availability of information regarding this document. You may obtain publicly available information related to this document using any of the following methods:

• Federal Rulemaking Website: Go to https://www.regulations.gov and search for Docket ID NRC-2021-0080. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Ronald A. Burrows, Office of Nuclear Material Safety and Safeguards, U.S. Nuclear Regulatory Commission, Washington, DC 20555-0001; telephone: 301-415-6443, email: Ronald.Burrows@nrc.gov.

SUPPLEMENTARY INFORMATION:

I. Introduction

The NRC is considering issuance of an amendment of License No. 45-23645-01NA, issued to the Department of the Navy (DON). Therefore, as required by Part 51 of title 10 of the Code of Federal Regulations (10 CFR), the NRC performed an EA. Based on the results of the EA that follows, the NRC has determined not to prepare an environmental impact statement for the license amendment and is issuing a FONSI.

II. Environmental Assessment

Introduction

In accordance with License Condition, 21.W of NRC Radioactive Materials License No. 45-23645-01NA (Master Materials License (MML)), the DON incorporates a permitting program for the use of licensed material. Individual entities that are subject to this permitting program are called permittees. Each permittee associated with this MML, consistent with the requirements in 10 CFR 30.36(h), is required to complete decommissioning as soon as practicable but no later than 24 months following the initiation of decommissioning.

The DON has requested approval to extend the 24-month time period specified in 10 CFR 30.36(h)(1) and (2) for completing decommissioning and requesting termination of permitted activities under its MML beyond the 24-month time limit for decommissioning. The NRC may approve such a request consistent with the criteria specified in 10 CFR 30.36(i).

Description of the Proposed Action

The proposed action would amend the DON's MML to allow an alternative schedule for decommissioning and requesting termination of permitted activities. By letter dated September 15, 2020, (ADAMS Accession No. ML20260H015) the DON requested a 10-year time limit be applied to the requirements in 10 CFR 30.36(h)(1) and (2) with no other stipulations. As a result of the information submitted by the DON to support its request, the NRC staff only analyzed potential environmental issues related to a shorter 5-year time limit.

During the review of the DON's request, the NRC staff identified some concerns related to the sites where groundwater could be implicated in the decontamination and termination of a permit. In response to this information, the NRC proposed to limit the extension of decontamination and termination of permitted site to those where no potential for groundwater contamination exists through a license condition. The DON agreed to this condition and its limitation in a letter dated February 6, 2021 (ADAMS Accession No. ML21048A250). As a result, the NRC staff's analysis of potential environmental impacts was limited to the 5-year time limit of the decommission and termination process for sites without the potential to involve groundwater. The NRC staff, however, is not taking a position and did not perform an assessment of potential environmental impacts from extending decommissioning and termination of permitted sites with potential groundwater concerns to a 5-year time limit.

Purpose and Need for the Proposed Action

The purpose of the proposed action is to align the DON's responsibilities for timely decommissioning and termination of permits as specified in 10 CFR 30.36(h)(1) and (2) with the Federal budgeting process. This purpose is consistent with the guidance for operators of Federal facilities in NUREG-1757 (see Section 2.6.1) (ADAMS Accession No. ML12048A683).

The need for the proposed action is to comply with NRC regulations. The NRC is fulfilling its responsibilities under the Atomic Energy Act to make a decision on a proposed license amendment for an alternative schedule for completion of decommissioning and permit termination that ensures protection of the public health and safety and environment.

Environmental Impacts of the Proposed Action

The NRC staff reviewed the information provided by the DON to support their 10 CFR 30.36(h)(1) and (2) alternative decommissioning and license (or permit, in this case) termination schedule request. As documented in the Technical Evaluation Report (TER) (ADAMS Accession No. ML21054A252), the NRC staff evaluated the five criteria specified in 10 CFR 30.36(i). Based on its evaluation of 10 CFR 30.36(i)(5), the NRC staff determined that the 24-month decommissioning timeline is inconsistent with the availability of funds to the DON for decommissioning activities.

Under the MML, the DON is currently allowed to permit any radionuclide to carry out activities at its permitted sites. The DON's permitting authority is limited to quantities that are less than the critical mass quantities specified in 10 CFR 150.11. The NRC staff notes that the DON is not requesting any changes to its licensed activities or other decommissioning processes previously evaluated and approved by the NRC staff.

The NRC staff evaluated potential environmental impacts resulting from increasing the time to complete the actions in 10 CFR 30.36(h)(1) and (2) from 2 years to 5 years. The NRC staff considered radionuclides with short half-lives (t1/2) (e.g., technicium-99, t1/2 = 6 hours) and long half-lives (e.g., U-235, t1/2 = 700 million years). Over the 3 additional years (5 years total), radionuclides with very short half-lives will decay to levels not detectable with common radiation detectors. During the same time frame, radionuclides with very long half-lives will undergo no appreciable radioactive decay and will therefore be at the same activity levels. The NRC staff did not identify activities that would result in a significant increase in the potential for or consequences from radiological accidents involving the licensed material as a result of the proposed action. The NRC staff considered the potential for any contamination to spread or migrate off the permitted site during the additional 3-years that would be allowed for decommissioning and termination. For sites without any potential groundwater contamination, the NRC staff did not identify any reasonable scenarios for contamination to migrate off-site given the DON ability to maintain institutional controls over the permitted sites. For sites with the potential for groundwater contamination, the NRC staff determined that it did not have sufficient information to complete a generic analysis of these permitted sites at this time. Consistent with the condition imposed on the amendment to sites without groundwater contamination, the NRC staff did not perform additional environmental analysis of these type of sites.

As a Federal agency, the DON or a successor agency would continue to be able to maintain institutional controls over the permitted sites and perform the necessary denomination and termination consistent with its appropriations. Therefore, the short extension from a 2-year period to the 5-year period is unlikely to result in abandonment of a site or affect the DON's ability to perform decommissioning.

Based on the previously noted analysis, the NRC staff finds that the environmental impacts of the proposed action are not significant.

Alternatives to the Proposed Action

As an alternative to the proposed action, the NRC staff considered the no-action alternative in which the NRC staff would deny the extension request. Denial of the request would require the DON to request separate extensions for most, if not all, of its permittees. This would place an undue burden on the DON and the NRC staff associated with the licensing actions required for these separate extension requests as the criteria to be considered by the NRC for approval would be the same or similar as those for the proposed action. In addition, the DON would not be able to comply with the timeliness requirements of 10 CFR 30.36(h)(1) and (2) due to the appropriation process. Therefore, the no-action alternative was not further considered.

Consultations

Section 7 of the Endangered Species Act (Act) [16 U.S.C. 1531 et seq.] outlines the procedures for Federal interagency cooperation to conserve Federally listed species and designated critical habitats. Section 7(a)(2) states that each Federal agency shall, in consultation with the Secretary, insure that any action they authorize, fund, or carry out is not likely to jeopardize the continued existence of a listed species or result in the destruction or adverse modification of designated critical habitat. The NRC staff has determined that a Section 7 consultation is not required because the proposed action is administrative/procedural in nature and will not affect listed species or critical habitat. The NRC staff has also determined that the proposed action is not a type of activity that have potential to cause effects on historic properties because they are administrative/procedural actions. Therefore, no additional consultation is required under Section 106 of the National Historic Preservation Act.

Conclusion

Based on its review, the NRC staff has concluded that the proposed action complies with 10 CFR part 30. NRC has prepared this EA in support of the proposed license amendment to approve an alternative decommissioning schedule. On the basis of the EA, NRC has concluded that the environmental impacts from the proposed action are expected to be insignificant and has determined that preparation of an environmental impact statement for the proposed action is not required.

III. Finding of No Significant Impact

On the basis of the EA, the NRC concludes that the proposed action will not have a significant effect on the quality of the human environment. Accordingly, the NRC has determined not to prepare an environmental impact statement for the proposed action.

Dated: March 19, 2021.
For the Nuclear Regulatory Commission.
Patricia K. Holahan,
Director, Division of Decommissioning, Uranium Recovery and Waste Programs, Office of Nuclear Material Safety and Safeguards.

[FR Doc. 2021-06134 Filed 3-24-21; 8:45 am]

BILLING CODE 7590-01-P